DEPARTMENT OF LABOR

Occupational Safety and Health Administration

[Docket No. OSHA-2010-0046]

QPS Evaluation Services Inc.: Grant of Renewal and Expansion of Recognition

AGENCY: Occupational Safety and Health Administration (OSHA), Labor.

ACTION: Notice.

SUMMARY: This notice announces the Occupational Safety and Health Administration's final decision granting renewal and expansion of recognition of QPS Evaluation Services Inc., as a Nationally Recognized Testing Laboratory (NRTL).

DATES: The renewal and expansion of recognition become effective on April 25, 2016.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition and is not a delegation or grant of government authority. Each NRTL's scope of recognition includes (1) the type of products the NRTL may test, with each type specified by its applicable test standard; and (2) the recognized site(s) that has/have the technical capability to perform the product-testing and product-certification activities for test standards within the NRTL's scope. As a result of recognition, employers may use products properly approved by the NRTL to meet OSHA standards that require testing and certification. OSHA maintains an informational Web page for each NRTL at http://www.osha.gov/dts/otpca/nrtl/index.html that details its scope of recognition.

OSHA processes applications submitted by an NRTL for renewal and expansion of recognition following requirements in Appendix A to 29 CFR 1910.7. OSHA conducts renewals in accordance with the procedures in 29 CFR 1910.7, Appendix A, Section II.C. OSHA processes applications for modifying the scope of recognition in accordance with 29 CFR 1910.7, Appendix A, Section II.B. An NRTL may submit an application to modify its scope of recognition at any time within its recognition period. For renewal, an NRTL must submit a renewal request to OSHA between nine months and one year before the expiration date of its current recognition. A renewal request includes an application for renewal and any additional information demonstrating an NRTL's continued compliance with the terms of its recognition and 29 CFR 1910.7. If OSHA has not conducted an on-site assessment of the NRTL headquarters and any key sites within the past 18 to 24 months, it will schedule the necessary on-site assessment prior to the expiration date of the NRTL's recognition.

Upon review of the submitted material and, as necessary, the successful completion of the on-site assessment, OSHA announces its preliminary decision to grant or deny renewal and expansion of an NRTL's scope of recognition in the Federal Register and solicits comments from the public. OSHA then publishes a final Federal Register notice responding to any comments and announcing its final decision on the renewal of the NRTL's recognition, as well as whether to expand the NRTL's scope of recognition.

II. General Background on the Application for Renewal

QPS Evaluation Services Inc. (QPS), initially received OSHA recognition as an NRTL on March 2, 2011 (76 FR 11518) for a five-year period expiring on March 2, 2016. QPS submitted a timely request for renewal, dated April 21, 2015 (OSHA-2010-0046-0007), and retained its recognition pending OSHA's final decision in this renewal process. The current address of QPS facilities recognized by OSHA and included as part of the renewal request is: QPS Evaluation Services Inc., 81 Kelfield Street, Unit 8, Toronto, Ontario M9W 5A3, Canada.

OSHA evaluated QPS's application for renewal and made a preliminary determination that QPS can continue to meet the requirements prescribed by 29 CFR 1910.7 for recognition. OSHA conducted an on-site assessment of QPS facilities on July 16-17, 2015 (Toronto, Canada) and found nonconformances with the requirements of 29 CFR 1910.7. QPS addressed these issues sufficiently to meet the applicable NRTL requirements.

III. General Information on the Applications for Expansion of Recognition

QPS submitted applications, dated July 16, 2014, and June 9, 2015 (OSHA-2010-0046-0004), to expand its recognition to include a total of seven additional test standards. OSHA staff performed a comparability analysis and reviewed other pertinent information. OSHA performed an on-site review in relation to these applications (as well as the application for renewal) on July 16-17, 2015.

OSHA published the preliminary notice announcing QPS's renewal request and scope expansion applications in the Federal Register on November 27, 2015 (80 FR 74144). The Agency requested comments by December 14, 2015, but received no comments in response to this notice. OSHA now is proceeding with this final notice to grant QPS's request for renewal and expansion of recognition.

To obtain or review copies of all public documents pertaining to the QPS's applications, go to www.regulations.gov or contact the Docket Office, Occupational Safety and Health Administration, U.S. Department of Labor, 200 Constitution Avenue NW., Room N-2625, Washington, DC 20210. Docket No. OSHA-2010-0046 contains all materials in the record concerning QPS's recognition.

IV. Final Decision and Order

OSHA staff examined QPS's renewal and expansion applications, its capability to meet the requirements of the test standards, and other pertinent information. Based on its review of this evidence, OSHA finds that QPS meets the requirements of 29 CFR 1910.7 for renewal and expansion of its recognition, subject to the specified limitations and conditions listed below. OSHA, therefore, is proceeding with this final notice to grant QPS's renewal and scope of recognition requests. OSHA limits the expansion of QPS's recognition to testing and certification of products for demonstration of conformance to the test standards listed in Table 1 below.

Table 1—List of Appropriate Test Standards for Inclusion in QPS's NRTL Scope of Recognition
Test standard | Test standard title
UL 48 | Standard for Electric Signs.
UL 8750 | Standard for Light Emitting Diode (LED) Equipment for Use in Lighting Products.
UL 73 | Standard for Motor-Operated Appliances.
UL 1310 | Standard for Class 2 Power Units.
UL 1598 | Luminaries.
UL 1741 | Standard for Inverters, Converters, Controllers and Interconnection System Equipment for Use with Distributed Energy Resources.
ANSI/ISA 12.12.01 | Nonincendive Electrical Equipment for Use in Class I and II, Division 2 and Class III, Divisions 1 and 2 Hazardous (Classified) Locations.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

OSHA limits the renewal of QPS's recognition to include the terms and conditions of QPS's scope of recognition, inclusive of the expansion of scope granted in this notice. The scope of recognition for QPS is available in the Federal Register notice dated March 2, 2011 (79 FR 11518) or on OSHA's Web site at https://www.osha.gov/dts/otpca/nrtl/qps.html. This renewal extends QPS's recognition for a period of five years from April 25, 2016.

Conditions

In addition to those conditions already required by 29 CFR 1910.7, QPS also must abide by the following conditions of recognition:

1. QPS must inform OSHA as soon as possible, in writing, of any change of ownership, facilities, or key personnel, and of any major change in its operations as an NRTL, and provide details of the change(s);

2. QPS must meet all the terms of its recognition and comply with all OSHA policies pertaining to this recognition; and

3. QPS must continue to meet the requirements for recognition, including all previously published conditions on QPS's scope of recognition, in all areas for which it has recognition.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, January 25, 2012), and 29 CFR 1910.7.

Signed at Washington, DC, on April 19, 2016.
David Michaels,
Assistant Secretary of Labor for Occupational Safety and Health.

[FR Doc. 2016-09488 Filed 4-22-16; 8:45 am]

BILLING CODE 4510-26-P